DEPARTMENT OF COMMERCE

Foreign-Trade Zones Board

[B-40-2017]

Foreign-Trade Zone (FTZ) 57—Charlotte, North Carolina, Notification of Proposed Production Activity, DNP Imagingcomm America Corporation (Coatings and Lamination on Semi-Completed Coated Paper), Concord, North Carolina

The Charlotte Regional Partnership, Inc., grantee of FTZ 57, submitted a notification of proposed production activity to the FTZ Board on behalf of DNP Imagingcomm America Corporation (DNP), operator of Subzone 57C, located in Concord, North Carolina. The notification conforming to the requirements of the regulations of the FTZ Board (15 CFR 400.22) was received on May 30, 2017.

DNP already has authority to slit foreign jumbo rolls of thermal transfer ribbons, dye sublimation transfer ribbon (STR), and assemble STR photo printer components (including photo printer packages—printer cartridges and paper) within Subzone 57C. DNP's new activity would add foreign status coatings and lamination to semi-completed coated paper to the scope of authority. Pursuant to 15 CFR 400.14(b), additional FTZ authority would be limited to the specific foreign-status materials/components described in the submitted notification (as described below) and subsequently authorized by the FTZ Board.

Production under FTZ procedures could exempt DNP from customs duty payments on the foreign-status materials/components used in export production. On its domestic sales, DNP would be able to choose the duty rate during customs entry procedures that applies to the finished products in the existing scope of authority for the foreign-status materials/components noted below. Customs duties also could possibly be deferred or reduced on foreign-status production equipment.

The materials/components sourced from abroad include: Polyurethane composed of urethane resin, m-xylylene diisocyanate and ethyl acetate; catalyst for sealant and adhesive formulation; polyurethane resin; binding agent for polyurethane coatings; propylene film; coated wood-free paper; chemical reaction initiators; components of printing ink; plastic film; chemical binders; and, resin—binder used in ink (duty rate ranges from free to 6.5%)

Public comment is invited from interested parties. Submissions shall be addressed to the Board's Executive Secretary at the address below. The closing period for their receipt is August 2, 2017.

A copy of the notification will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For further information, contact Christopher Wedderburn at Chris.Wedderburn@trade.gov or (202) 482-1963.

Dated: June 16, 2017.
Andrew McGilvray,
Executive Secretary.

[FR Doc. 2017-13134 Filed 6-22-17; 8:45 am]

BILLING CODE 3510-DS-P